DEPARTMENT OF ENERGY

Electricity Advisory Committee; Meeting

AGENCY: Office of Electricity, Department of Energy.

ACTION: Notice of open meeting.

SUMMARY: This notice announces a meeting of the Electricity Advisory Committee. The Federal Advisory Committee Act requires that public notice of these meetings be announced in the Federal Register.

DATES:

Wednesday, October 16, 2019; 12:00 p.m.-6:00 p.m. EST

Thursday, October 17, 2019; 8:00 a.m.-12:15 p.m. EST

ADDRESSES: National Rural Electric Cooperative Association, First floor conference room, 4301 Wilson Blvd., Arlington, Virginia 22203 (Ballston Metro Stop).

FOR FURTHER INFORMATION CONTACT: Christopher Lawrence, Office of Electricity, U.S. Department of Energy, Forrestal Building, Room 8G-017, 1000 Independence Avenue SW, Washington, DC 20585; Telephone: (202) 586-5260 or Email: christopher.lawrence@hq.doe.gov.

SUPPLEMENTARY INFORMATION: Purpose of the Committee: The Electricity Advisory Committee (EAC) was established in accordance with the provisions of the Federal Advisory Committee Act (FACA), as amended, 5 U.S.C., App. 2, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to electricity.

Tentative Agenda

October 16, 2019

12:00 p.m.-1:00 p.m. Registration

1:00 p.m.-1:20 p.m. Welcome, Introductions, Developments since the June 2019 Meeting

1:20 p.m.-1:40 p.m. Update on Office of Electricity Programs and Initiatives

1:40 p.m.-2:00 p.m. Update of Office of Nuclear Energy Programs and Initiatives

2:00 p.m.-2:30 p.m. Presentation on the DOE Advanced Energy Storage Initiative

2:30 p.m.-2:45 p.m. Break

2:45 p.m.-3:15 p.m. Presentation on Future of Energy Storage

3:15 p.m.-4:00 p.m. Panel Presentations: Energy Storage Deployment Case Studies

4:00 p.m.-4:15 p.m. Break

4:15 p.m.-5:45 p.m. EAC Discussion with Storage Case Study Panelists

5:45 p.m.-6:00 p.m. Wrap-up and Adjourn Day 1

October 17, 2019

8:00 a.m.-8:10 a.m. Day 2 Opening Remarks

8:10 a.m.-8:30 a.m. Discussion of Department of Energy, Office of Electricity Synchrophasor and Sensor R&D Activities

8:30 a.m.-9:15 a.m. Panel Presentations: Impediments to Leveraging Phasor Measurement Unit (PMU) Data and Synchrophasors

9:15 a.m.-9:30 a.m. Break

9:30 a.m.-10:45 a.m. EAC Discussion with PMU and Synchrophasor Panelists

10:45 a.m.-10:50 a.m. Smart Grid Subcommittee Update

10:50 a.m.-11:05 a.m. Energy Storage Subcommittee Update

11:05 a.m.-11:30 a.m. Smart Grid Subcommittee Update

11:30 a.m.-11:40 a.m. Public Comments

11:40 a.m.-12:00 p.m. Annual Ethics Briefing for EAC Members

12:00 p.m.-12:10 p.m. Wrap-up and Adjourn

The meeting agenda may change to accommodate EAC business. For EAC agenda updates, see the EAC website at: http://energy.gov/oe/services/electricity-advisory-committee-eac.

Public Participation: The EAC welcomes the attendance of the public at its meetings, no advanced registration is required. Individuals who wish to offer public comments at the EAC meeting may do so on Thursday, October 17, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee Open Meeting,” to Christopher Lawrence at (202) 586-1472 (Fax) or email: Christopher.lawrence@hq.doe.gov.

Minutes: The minutes of the EAC meeting will be posted on the EAC web page at http://energy.gov/oe/services/electricity-advisory-committee-eac. They can also be obtained by contacting Mr. Christopher Lawrence at the address above.

Signed in Washington, DC, on September 26, 2019.
LaTanya Butler,
Deputy Committee Management Officer.

[FR Doc. 2019-21365 Filed 10-1-19; 8:45 am]

BILLING CODE 6450-01-P